DEPARTMENT OF THE INTERIOR

Bureau of Land Management

[WO-320-1330-PB-24 1A]

Extension of Currently Approved Information Collection; OMB Approval Number 1004-0121

AGENCY: Bureau of Land Management, Interior.

ACTION: Notice and request for comments.

SUMMARY: In accordance with the Paperwork Reduction Act of 1995, the Bureau of Land Management (BLM) announces its intention to request an extension of approval for the collection of information from applicants to lease and develop solid minerals other than coal and oil shale. The BLM uses the information supplied to determine whether an applicant, permittee, or lease is qualified to hold an interest under the terms of the Mineral Leasing Act of 1920 (MLA). BLM also uses this information to determine if development plans will adequately protect Federal land and that the property amounts of rental and royalty are collected.

DATE: Comments on the proposed information collection must be received by March 27, 2000 to be considered.

ADDRESSES: Comments may be mailed to: Regulatory Affairs Group, 1849 C St., N.W., Room 401LS, Washington, D.C. 20240. Comments may be sent by Internet to: WOComment@wo.blm.gov. Please include: “Attn.: 1004-0121” and your name and address in your Internet message. Comments will be available for public review at the L Street address during regular business hours (7:45 am to 4:15 pm, Monday through Friday).

FOR FURTHER INFORMATION CONTACT: Philip Allard, Solid Minerals Group, (202) 452-5195. For assistance in reaching the above contact, individuals who use a telecommunications device for the deaf (TDD) may call the Federal Information Relay Service at 1-800-877-8339 between 8:00 a.m. and 8:00 p.m., Eastern time, Monday through Friday, except holidays.

SUPPLEMENTARY INFORMATION: The regulations at 5 CFR 1320.12(a) require BLM to provide 60-day notice in the Federal Register concerning a collection of information contained in a published current rule to solicit comments on: (1) Whether the proposed collection of information is necessary for the proper performance of the functions of the agency, including whether the information will have practical utility; (2) the accuracy of BLM's estimate of the burden of the proposed collection of information, including the validity of the methodology and assumptions used; (3) ways to enhance the quality, utility and clarity of the information to be collected; and (4) ways to minimize the burden of collecting the information on those who must respond, including through the use of automated, electronic, mechanical, or technological collection techniques or other forms of information technology.

BLM plans to seek from the Office of Management and Budget extension of approval for the information collection requirements in 43 CFR Parts 3500 through 3590, which cover the leasing of solid minerals other than coal and oil shale and operations on those leases. These regulations implement the statutory authority governing leasing activities on Federal lands found in the Mineral Leasing Act of 1920 (30 U.S.C. 181 et seq.), the Mineral Leasing Act for Acquired Lands of 1947 (30 U.S.C. 351-359), Section 402 of Reorganization Plan No. 3 of 1946 (5 U.S.C. Appendix), the Multiple Mineral Development Act of 1954 (30 U.S.C. 521-531), the National Environmental Policy Act of 1969 (42 U.S.C. 4321), and the Federal Land Policy and Management Act of 1976 (43 U.S.C. 1701 et seq.).

The implementing regulations outline procedures for members of the public to submit applications, offers, statements, petitions, and various forms. The information required in the applications, statements and petitions is needed by BLM to determine applicant qualifications to hold a lease to obtain a benefit under the terms of the MLA, its subsequent amendments, related statutes, and the regulations. Information collection requirements are based on the statutory requirements concerning the qualifications and eligibility to hold title to or interest in Federal mineral leases and on the regulatory requirements relating to the identification, location and quality of minerals under application and identification of proposed operational activities. The affected public consists of all present and prospective holders of Federal solid mineral leases other than coal or oil shale, prospecting permits, use permits, and exploration licenses.

Breakdown of Information Collections and Total Hours
Type of information collection | Number of responses | Hours per response | Total hours
Prospecting Permit | 25 | 1 | 25
Exploration Plan for Prospecting Permit | 20 | 80 | 1,600
Prospecting Permit Extension | 5 | 1 | 5
Preference Right Lease | 2 | 100 | 200
Competitive Lease Bid | 5 | 40 | 200
Fringe Acreage Lease or Lease Modification | 5 | 40 | 200
Assignment or Sublease | 40 | 2 | 80
Lease Renewals or Adjustments | 15 | 1 | 15
Use Permit | 1 | 1 | 1
Exploration License | 1 | 3 | 3
Exploration Plan for Exploration License | 1 | 80 | 80
Development Contract | 1 | 1 | 1
Bond | 150 | 4 | 600
Mine Plan | 5 | 150 | 750
Total | 276 |  | 3,760

Based on its experience administering the leasing program, BLM estimates that it will take an average of about 14 hours per response to complete the applications, petitions, offers and statements required. The applicants will have access to records, plats and maps necessary for providing legal land descriptions. The type of information necessary is outlined in the regulations and is already maintained by the respondents for their own record keeping purposes and needs only to be compiled in a reasonable format. The estimate also includes the time required for assembling the information, as well as the time of clerical personnel, if needed.

BLM estimates that approximately 276 filings will be made annually for a total of 3,760 reporting hours. Respondents vary from individuals to small businesses and major corporations. Any interested member of the public may request and obtain, without charge, copies of any of forms listed in this notice by contacting the person identified under FOR FURTHER INFORMATION CONTACT.

All responses to this notice will be summarized and included in the request for Office of Management and Budget approval. All comments will become part of the public record.

Dated: January 4, 2000.
Carole Smith,
Bureau of Land Management Information Collection Clearance Officer.

[FR Doc. 00-1740 Filed 1-24-00; 8:45 am]

BILLING CODE 4310-84-M